DEPARTMENT OF TRANSPORTATION

Federal Transit Administration

Alternative Transportation in Parks and Public Lands Program

AGENCY: Federal Transit Administration (FTA), DOT.

ACTION: Notice of Funding Availability; Solicitation of Proposals for Funding through the Alternative Transportation in Parks and Public Lands Program.

SUMMARY: This solicitation is for proposals for fiscal year 2006 funding through the new Alternative Transportation in Parks and Public Lands program, administered by the Federal Transit Administration in partnership with the Department of the Interior and the U.S. Department of Agriculture's Forest Service. The purpose of the program is to enhance the protection of national parks and Federal lands, and increase the enjoyment of those visiting them. The program funds capital and planning expenses for alternative transportation systems in parks and public lands. Federal land management agencies and State, tribal and local governments acting with the consent of a Federal land management agency are eligible to apply.

DATES: Complete proposals must be received by the designated Federal land management agency contact listed in this notice by the close of business May 5, 2006.

ADDRESSES: Project proposals must be submitted to the designated contact person at the headquarters office of the Federal land management agency that manages the park or public land involved. If the project involves more than one Federal land management agency, a project proposal template must be submitted to all agencies involved. The required project proposal template is available at http://www.fta.dot.gov. E-mail submission is preferred. Mail and fax submission will also be accepted.

• National Park Service: Kevin Percival, Kevin_Percival@nps.gov, tel: 303-969-2429, fax: 303-987-6675, mail: 12795 W. Alameda Parkway, P.O. Box 25287, Denver, CO 80225-0287.

• Fish and Wildlife Service: Nathan Caldwell, nathan_caldwell@fws.gov, tel: 703-358-2376, fax: 703-358-2517, mail: 4401 N. Fairfax Drive, Suite 634; Arlington, VA 22203.

• Forest Service: Ellen LaFayette, elafayette@fs.fed.us, tel: 703-605-4509, fax: 703-605-1542, mail: 1400 Independence Avenue, SW., Washington, DC 20250-1101.

• Bureau of Land Management: Linda Force, Linda_Force@blm.gov, tel: 202-557-3567, fax: 202-452-5046, mail: 1849 C Street, NW., Washington, DC 20240.

FOR FURTHER INFORMATION: Contact David Vozzolo, Deputy Associate Administrator for Planning and Environment, 202-366-4033, e-mail: atppl@dot.gov.

SUPPLEMENTARY INFORMATION:

Table of Contents

I. General Program Information

II. Guidelines for Preparing and Submitting Proposals

III. Proposal Review, Selection, and Notification

IV. Additional Program Information

I. General Program Information

A. Authority

Section 3021 of the Safe, Accountable, Flexible, Efficient Transportation Equity Act—A Legacy for Users of 2005 (SAFETEA-LU) establishes a new program called the Alternative Transportation in Parks and Public Lands program (49 U.S.C. 5320). SAFETEA-LU authorizes $98 million in funding for the program for fiscal years 2006 through 2009. For fiscal year 2006, Congress appropriated $21,780,000 for this program. No one project may receive more than 25 percent of funds.

B. Background

Congestion in and around parks and public lands causes traffic delays and noise and air pollution that substantially detract from the visitor's experience and the protection of natural resources. In August 2001, the Department of Transportation and the Department of the Interior published a comprehensive study of alternative transportation needs in national parks and related Federal lands. The study identified significant alternative transportation needs at sites managed by the National Park Service, the Bureau of Land Management, and the U.S. Fish and Wildlife Service. Additionally, a supplement to this report identified Forest Service sites that would benefit from such services.

Section 3021 of SAFETEA-LU (49 U.S.C. § 5320) addresses these needs by establishing a new program to fund alternative transportation projects in national parks and public lands. The goals of the program are to ensure access to all, including persons with disabilities; improve conservation and park and public land opportunities in urban areas through partnering with State and local governments; improve park and public land transportation infrastructure; enhance the environment and prevent or mitigate adverse impacts on natural resources; reduce congestion and pollution; improve visitor mobility and accessibility and the visitor experience; improve Federal land management agency resource management; and conserve natural, historical, and cultural resources.

C. Eligible Applicants

Eligible applicants are:

(1) The following Federal land management agencies: The National Park Service, the Fish and Wildlife Service, the Bureau of Land management, the Forest Service, and the Bureau of Reclamation; and

(2) State, tribal and local governments with jurisdiction over land in the vicinity of an eligible area acting with the consent of a Federal land management agency, alone or in partnership with a Federal land management agency or other governmental or non-governmental participant.

D. Eligible Expenses

SAFETEA-LU defines alternative transportation as “transportation by bus, rail, or any other publicly or privately owned conveyance that provides to the public general or special service on a regular basis, including sightseeing service. Such term also includes a non-motorized transportation system (including the provision of facilities for pedestrians, bicycles, and non-motorized watercraft).”

A qualified project is a planning or capital project in or in the vicinity of a Federally-owned or managed park, refuge, or recreational area that is open to the general public and meets the goals of the program. Project evaluation will be based on the considerations listed in the law and explained in part F of this notice. The following types of projects are eligible:

(1) Planning Projects: Activities to comply with metropolitan and statewide planning provisions. (49 U.S.C. 5320(b)(5)(A) referencing 49 U.S.C. 5303, 5304, and 5305). Activities include planning studies for an alternative transportation system including evaluation of no-build and all other reasonable alternatives, traffic studies, visitor utilization studies, transportation analysis, feasibility studies, and environmental studies.

(2) Capital projects for “acquiring, constructing, supervising, or inspecting equipment or a facility for use in public transportation, expenses incidental to the acquisition or construction (including designing, engineering, location surveying, mapping, and acquiring rights-of-way), payments for the capital portions of rail trackage rights agreements, transit-related intelligent transportation systems, relocation assistance, acquiring replacement housing sites, and acquiring, constructing, relocating, and rehabilitating replacement housing;” (49 U.S.C. 5320(b)(5)(A) referencing 49 U.S.C. 5302(a)(1)(A).)

(3) Fixed Guideway and Bus Projects:

(i) New fixed guideway capital projects including the acquisition of real property, the initial acquisition of rolling stock for the systems, the acquisition of rights-of-way, and relocation, for fixed guideway corridor development for projects in the advanced stages of alternatives analysis or preliminary engineering;

(ii) Capital projects to modernize existing fixed guideway systems;

(iii) Capital projects to replace, rehabilitate, and purchase buses and related equipment and to construct bus-related facilities, including programs of bus and bus-related projects for assistance to subrecipients that are public agencies, private companies engaged in public transportation, or private non-profit organizations; and

(iv) The development of corridors to support new fixed guideway capital projects, including protecting rights-of-way through acquisition, construction of dedicated bus and high occupancy vehicle lanes and park and ride lots, and other nonvehicular capital improvements that the Secretary may decide would result in increased public transportation usage in the corridor. (49 U.S.C. 5320(b)(5)(A) referencing 49 U.S.C. 5309(b).)

(4) Purchase of rolling stock that incorporates clean fuel technology or the replacement of buses of a type in use on August 10, 2005, with clean fuel vehicles;

(5) The deployment of alternative transportation vehicles that introduce innovative technologies or methods;

(6) The capital costs of coordinating Federal land management agency public transportation systems with other public transportation systems;

(7) Non-motorized transportation systems (including the provision of facilities for pedestrians, bicycles and non-motorized watercraft); and

(8) Any other alternative transportation project that:

• Enhances the environment;

• Prevents or mitigates an adverse impact on a natural resource;

• Improves Federal land management agency resource management;

• Improves visitor mobility and accessibility and the visitor experience;

• Reduces congestion and pollution (including noise pollution and visual pollution); or

• Conserves a natural, historical, or cultural resource (excluding rehabilitation or restoration of a non-transportation facility).

E. Planning and Coordination Requirements

(1) Planning Requirements

Section 5320(e) specifies that if the participant is a Federal land management agency, the project must be consistent with the metropolitan and statewide planning and public participation requirements found in 49 U.S.C. 5303, 5304, and 5307(d). If the qualified participant is a State or local government, or more than one State or local governmental authority in more than one State, the qualified participant must comply with the metropolitan and statewide planning provisions and public participation requirements. FTA cannot award funds to an implementation project if it is not in the metropolitan Transportation Improvement Program (TIP) or State Transportation Improvement Program (STIP). If an implementation project is not in the TIP or STIP at the time of submitting a proposal, it can still be selected, but will not receive funds until it is incorporated into the TIP or STIP. In addition, implementation projects not in the TIP or STIP at the time of submitting a proposal should demonstrate intent to be included, such as through a copy of correspondence with the metropolitan or state planning organization.

Projects must also be consistent with Federal land management agency plans.

(2) Coordination With Federal Land Management Agency

If the applicant is a State, tribal, or local government authority, the applicant must have the consent of the Federal land management agency or agencies to be affected. A letter from the unit(s) of the Federal land management agency or agencies affected expressing support for the project should be submitted with the project proposal.

F. Proposal Evaluation Criteria

Consistent with the considerations identified in Section 5320(g)(2), proposed projects will be evaluated based on the following criteria:

• Demonstration of need

○ Documentation of problem in plans and other reports

○ Severity of problem

• Protection of natural and cultural resources

○ Protection or improvement of cultural, historical, scenic, and natural resources

○ Environmental benefits—reduction of pollution (including air pollution, noise pollution, and visual pollution)

• Operational efficiency and financial sustainability

○ Evaluation of costs and benefits of all reasonable alternatives

○ Financial planning (including for capital, operations, maintenance, and equipment replacement expenses; and revenues, including user fees)

○ Cost effectiveness

○ Innovative financing or joint development strategies

○ Deferred maintenance issues

• Public benefits

○ Enhancing visitor experience

○ Mobility issues (reduces congestion, improves intermodal connectivity, improves public access, including access for persons with disabilities)

○ Safety

○ Partnership with public and private entities, and benefits to gateway communities.

Additional consideration will be given to projects based upon geographic diversity, balance between urban and rural projects, and balance in size of projects. Finally, projects that demonstrate innovative funding mechanisms or partnerships will be given extra consideration. The application template contains specific questions related to each of these areas to guide the applicant in justifying the project.

II. Guidelines for Preparing and Submitting Proposals

Project proposal templates for the Alternative Transportation in Parks and Public Lands program are available at http://www.fta.dot.gov. Click on the navigational tab for Grant Programs on the right hand side, then click on the Grant Programs link, and then click on the link for the Alternative Transportation in Parks and Public Lands Program. To receive a proposal template by e-mail, please send an e-mail to tina.hodges@dot.gov. There are separate proposal templates for planning and capital projects. A synopsis of this announcement will also be posted in the FIND module of the government-wide electronic grants Web site at http://www.grants.gov.

Project proposals must be submitted to the designated contact person at the headquarters office of the Federal land management agency that manages the park or public land involved. This list can be found in the Addresses section of this notice. If the project involves more than one Federal land management agency, a proposal template must be submitted to all agencies involved. The project proposal must be ten or fewer pages in length at ten point font or larger. If a proposal is greater than ten pages, only the first ten pages will be considered during the evaluation process. Submission by e-mail is preferred. Mail and fax submissions will also be accepted.

If applicants would like to apply for funds appropriated for future fiscal years, applicants must reapply each year.

III. Proposal Review, Selection and Notification

Proposals will first be reviewed and screened by the headquarters office of the relevant Federal land management agency (or agencies if the project involves more than one). Following this initial review, proposals will be evaluated by an interagency team which includes representatives from FTA, each of the Federal land management agencies, and the Department of the Interior. After evaluating the projects based on the criteria in the law and further explained in part F of this notice, the team will provide a recommendation to the Secretary of the Interior. The Secretary of the Interior, after consultation with and in cooperation with the Secretary of Transportation, shall determine the final selection and amount of funding for each project.

The Department of the Interior plans to announce the projects selected by summer 2006. The Department of the Interior will notify each Federal land management agency of projects awarded for sites under the agency's jurisdiction. FTA will publish the list of all selected projects and funding levels in the Federal Register, as well as in its annual report to Congress on the Alternative Transportation in Parks and Public Lands program submitted as part of its Annual Report on New Starts in early February 2007. Criteria and application procedures may be reassessed for subsequent years.

IV. Additional Program Information

A. Funds Administration and Oversight

Once proposals have been reviewed and projects have been chosen based on selection criteria, the cognizant federal agency (or agencies), will award funds to the proposing entity to implement the project. These funds will be administered according to federal requirements as well as the appropriate policies, guidelines and rules of the pertinent agencies.

For projects directly administered by a Federal land management agency, these funds will be administered by interagency agreement between the FTA and the respective agency. For programs administered by a State, tribal, or local governmental authority, these funds will be administered through a grant administered by FTA. With regard to interagency agreement and grant requirements, 49 U.S.C. 5320(i) authorizes the Secretary to apply the requirements of 49 U.S.C. 5307 (Urbanized Area Formula Grant) and 5333(a) (Prevailing Wages Requirement) “to the extent the Secretary deems appropriate.” FTA is in the process of developing the interagency agreement and grant requirements for this program and will make these available for public notice and comment in the Federal Register prior to award of program funds.

Additionally, each recipient (federal land management agency, and State, tribal, and local governments) of federal funds must comply with requisite federal guidelines governing the management of federal funds and specific program requirements. Program Oversight, as defined by FTA, will ensure that projects meet the basic statutory, administrative, and regulatory requirements as stipulated by the conditions for accepting Federal funds.

B. Performance Measures

Participants may be asked to compile data for use in measuring program performance.

C. Technical Assistance, Planning, and Research

The Alternative Transportation in Parks and Public lands program allows the Department of Transportation to spend not more than ten percent of program funds to carry out planning, research, and technical assistance activities. FTA will oversee the funds allocated to technical assistance to assist program participants in planning, implementing, and evaluating alternative transportation projects. In addition, FTA will be responsible for the provision of planning guidance and dissemination of research findings.

Issued in Washington, DC, this 17th day of March, 2006.
Sandra K. Bushue,
Deputy Administrator.

[FR Doc. E6-4208 Filed 3-22-06; 8:45 am]

BILLING CODE 4910-57-P